DEPARTMENT OF HEALTH AND HUMAN SERVICES

Public Health Service

National Toxicology Program (NTP) Board of Scientific Counselors Technical Reports Review Subcommittee Meeting; Review of Draft NTP Technical Reports

Pursuant to Public Law 92-463, notice is hereby given of the next meeting of the NTP Board of Scientific Counselors Technical Reports Review Subcommittee on May 3, 2001 in the Rodbell Auditorium, Rall Building, South Campus, National Institute of Environmental Health Sciences (NIEHS), 111 Alexander Drive, Research Triangle Park, North Carolina. The meeting will begin at 8:30 a.m. on May 3, and is open to the public. The primary agenda topic is the peer review of draft Technical Reports of rodent toxicology and carcinogenesis studies performed by the NTP.

Tentatively scheduled for peer review on May 3, are draft Technical Reports of five 2-year studies, listed alphabetically in the attached table, along with supporting material. Studies were conducted using Fischer 344 rats and/or B6C3F1 mice. The tentative order of review is given in the far right column of the table.

Draft Reports Available for Public Review and Comment

Approximately one month prior to the meeting, the draft reports will be available for public review on the internet, free of charge, through the Environmental Health Information Service (EHIS) at http://ehis.niehs.nih.gov. Printed copies can be obtained, as available, from: Central Data Management (CDM), NIEHS, P.O. Box 12233, MD E1-02, Research Triangle Park, NC 27709, T: 919-541-3419, FAX: 919-541-3687, or e-mail: CDM@niehs.nih.gov.

The NTP Board of Scientific Counselors Technical Reports Review Subcommittee meeting is open to the public and public comment on any of the Technical Reports is welcome. Time will be provided at the meeting for public comment on each of the reports under review. In order to facilitate planning for the meeting, persons requesting time for an oral presentation on a particular Technical Report are asked to notify the Executive Secretary, Dr. Mary S. Wolfe, at P.O. Box 12233, MD A3-07, Research Triangle Park, NC 27709, T: 919-541-3971, F: 919-541-0295, e-mail: wolfe@niehs.nih.gov. Persons registering to make brief comments are asked to provide, if possible, a written copy of their statement by April 20, to enable review by the Subcommittee and staff prior to the meeting. Written statements can supplement and may expand the oral presentation. Each speaker is asked to provide his/her name, affiliation, mailing address, phone, fax, e-mail and supporting organization (if any). At least seven minutes will be allotted to each speaker, and if time permits, may be extended to 10 minutes. Each organization is allowed one time slot for each report being reviewed. Registration for making public comments will also be available on-site. If registering on-site to speak and reading oral comments from printed copy, the speaker is asked to bring 25 copies of the text. These copies will be distributed to the Chair and Subcommittee members and supplement the record.

Written comments, in lieu of making oral comments, are also welcome. The comments should include name, affiliation, mailing address, phone, fax, e-mail and sponsoring organization (if any) and preferably be received by April 20, to enable review by the Subcommittee and staff prior to the meeting.

Request for Additional Information

The NTP would welcome receiving toxicology and carcinogenesis information from completed, ongoing or planned studies as well as current production data, human exposure information, and use patterns for any of the chemicals listed in this announcement. Please forward this information to CDM at the address given above. CDM will forward the information to the appropriate staff scientist.

The agenda and a roster of subcommittee members will be available prior to the meeting on the NTP web homepage at http://ntp-server.niehs.nih.gov and upon request from the Executive Secretary. Following the meeting, summary minutes will be available on the NTP web homepage and upon request to Dr. Wolfe.

Dated: March 23, 2001.
Samuel H. Wilson,
Deputy Director, National Institute of Environmental Health Sciences.

Technical Reports Tentatively Scheduled for Review by the NTP Board of Scientific Counselors Technical Reports Review Subcommittee on May 3, 2001
Chemical CAS number | Report No. | Primary uses | Route & exposure levels | Review order
Acrylonitrile 107-13-1 | TR-506 | Used in the production of acrylic fibers, elastomers, resins, and a variety of chemical or intermediates; annual production is in the millions of tons | Gavage (deionized water vehicle) Mice: 2.5, 10, or 20 mg/kg | 3
Citral 5392-40-5 | TR-505 | Used in lemon flavoring in foods and beverages and as a lemon fragrance in detergents, perfumes, and toiletries | Microencapsulated citral in feed Rats: 0, 1000, 2000, or 4000 ppm Mice: 0, 500, 1000, or 2000 ppm | 5
Methacrylonitrile 126-98-7 | TR-497 | Used in the production of polymers, elastomers, and plastics including those used in beverage containers | Gavage (deionized water vehicle) Rats: 0, 3, 10, or 30 mg/kg Mice: 0, 1.5, 3, or 6 mg/kg | 4
o-Nitrotoluene 88-72-2 | TR-504 | Used in synthesis of agricultural and rubber chemicals and of a variety of dyes | Feed Rats: 0, 625, 1250, or 2000 ppm; Male rats: 2000 or 5000 ppm (stop study) Mice: 0, 1250, 2500, or 5000 ppm | 1
p-Nitrotoluene 99-99-0 | TR-498 | Used in synthesis of agricultural and rubber chemicals and of a variety of dyes | Feed Rats & Mice: 0, 1250, 2500, or 5000 ppm | 2

[FR Doc. 01-8092 Filed 4-2-01; 8:45 am]

BILLING CODE 4140-01-P